ENVIRONMENTAL PROTECTION AGENCY

[FRL-7631-9]

Science Advisory Board (SAB) Staff Office; Notification of Multiple Public Teleconference Meetings

AGENCY: Environmental Protection Agency (EPA).

ACTION: Notice.

SUMMARY: The Environmental Protection Agency Science Advisory Board (SAB) Staff Office announces upcoming teleconferences of the following two Advisory Panels:

(1) Advisory Council on Clean Air Compliance Analysis Special Council Panel for the Review of the Third 812 Analysis: Public teleconference to finalize its advice on the Agency's draft analytical plan for that analysis.

(2) SAB Multimedia, Multipathway, and Multireceptor Risk Assessment (SAB 3MRA) Modeling System Panel: Public teleconference to allow the Panel to confirm that final changes to the draft report were made correctly.

DATES: The Special Council Panel for the Review of the Third 812 Analysis will hold a public teleconference on March 18, 2004, from 12 p.m. to 2 p.m. (eastern time).

The SAB Multimedia, Multipathway, and Multireceptor Risk Assessment (SAB 3MRA) Modeling System Panel will hold a public teleconference on March 18, 2004, from 1 p.m. to 3 p.m. (eastern time).

ADDRESSES: Participation in the meetings indicated above will be by teleconference only. Supplemental materials and an agenda for each meeting will be announced on the SAB Web site, http://www.epa.gov/sab prior to each teleconference.

FOR FURTHER INFORMATION CONTACT: Members of the public who wish to obtain the call in number and access code to participate in either of the teleconferences, or who wish to submit written or brief oral comments (three minutes or less) must contact the appropriate Designated Federal Officer (DFO) listed below:

(1) For information regarding the Special Council Panel for the Review of the Third 812 Analysis please contact Dr. Angela Nugent, telephone/voice mail: (202) 564-4562, fax: (202) 501-0582, or e-mail: nugent.angela@epa.gov.

(2) For information regarding the SAB 3MRA Panel contact Ms. Kathleen White, telephone/voice mail: (202) 564-4559, fax: (202) 501-0582, or e-mail: white.kathleen@epa.gov. To reach a central number at the SAB Staff Office, please call via telephone (202) 564-4533, U.S. EPA Science Advisory Board (1400A), 1200 Pennsylvania Avenue, NW., Washington, DC 20460. General information about the SAB and Council can be found on the SAB Web site at http://www.epa.gov/sab.

SUPPLEMENTARY INFORMATION: The Special Council Panel for the Review of the Third 812 Analysis is holding a public teleconference for the Council to finalize a draft report advising the EPA on its plans for the Third 812 analysis. The overall charge to the Panel is to provide advice to the Agency regarding data and methods to be used for the Agency's planned analysis under section 312 of the Clean Air Act (CAA) of the impacts of the Clean Air Act (CAA) on the public health, economy, and environment. Background on the Committee and its charge was provided in 68 FR 7531-7534, February 14, 2004. More information regarding this advisory activity can be found at the SAB Web site at http://www.epa.gov/science1/panels/scpanel812heesaqms.htm.

The SAB 3MRA Panel is holding a public teleconference to confirm that final changes to its draft report were made correctly. Background on the SAB 3MRA Panel, and this review was provided in 68 FR 17797-17800, April 11, 2003. Additional meetings of the Panel were announced in 68 FR 46606-46607, August 6, 2003. More information regarding this review can be found at the SAB Web site at http://www.epa.gov/sab/panels/SAB 3MRAmspanel.html.

Providing Oral or Written Comments at SAB Meetings: It is the policy of the SAB Staff Office to accept written public comments of any length, and to accommodate oral public comments whenever possible. The SAB Staff Office expects that public statements presented at its teleconferences and meetings will not be repetitive of previously-submitted oral or written statements. Oral Comments: In general, for teleconference meetings, opportunities for oral comment will be limited to no more than three minutes per speaker and no more than fifteen minutes total. Requests to provide oral comments must be in writing (e-mail, fax or mail) and received by the DFO no later than noon eastern time five business days prior to each teleconference in order to reserve time on the teleconference agenda. Written Comments: Although the SAB Staff Office accepts written comments until the date of the meeting (unless otherwise stated), written comments should be received in the SAB Staff Office at least seven business days prior to the teleconference date so that the comments may be made available to the committee or panel for their consideration. Comments should be supplied to the DFO at the address/contact information noted above in the following formats: one hard copy with original signature, and one electronic copy via e-mail (acceptable file format: Adobe Acrobat, WordPerfect, Word, or Rich Text files (in IBM-PC/Windows 95/98 format)).

Meeting Accommodations: Individuals requiring special accommodation to access these teleconferences, should contact the appropriate DFO at least five business days prior to the teleconference so that appropriate arrangements can be made.

Dated: February 26, 2004.
Vanessa T. Vu,
Director, EPA Science Advisory Board Staff Office.

[FR Doc. 04-4823 Filed 3-3-04; 8:45 am]

BILLING CODE 6560-50-P